DEPARTMENT OF HEALTH AND HUMAN SERVICES

National Institutes of Health

Center for Scientific Review; Amended Notice of Meeting

Notice is hereby given of a change in the meeting of the Musculoskeletal Rehabilitation Sciences Study Section, June 17, 2021, 10:00 a.m. to June 18, 2021, 07:00 p.m., National Institutes of Health, Rockledge II, 6701 Rockledge Drive, Bethesda, MD 20892 which was published in the Federal Register on May 18, 2021, 86 FR 26928.

Chi-Wing Chow, Ph.D., chi-wing.chow@nih.gov, will be the new Contact person, replacing Maria Nurminskaya as Scientific Review Officer. Meeting date and location remain the same. The meeting is closed to the public.

Dated: May 19, 2021.
David W. Freeman,
Program Analyst, Office of Federal Advisory Committee Policy.

[FR Doc. 2021-10912 Filed 5-21-21; 8:45 am]

BILLING CODE 4140-01-P